ENVIRONMENTAL PROTECTION AGENCY

[FRL-6585-8]

Notice of Request for Pre-Proposals To Convene a National Watershed Forum

AGENCY: Environmental Protection Agency (EPA).

ACTION: Notice.

SUMMARY: Notice is hereby given that the EPA is soliciting pre-proposals from organizations interested in convening a National Watershed Forum and that are eligible to receive Federal assistance awards under the Clean Water Act Section 104(b)(3). Eligible entities under Clean Water Act Section 104(b)(3) authority are “State water pollution control agencies, interstate agencies, other public or non-profit private agencies, institutions, organizations, and individuals.” EPA will award up to $300,000 to a recipient organization through a cooperative agreement to support the recipient organization's efforts to convene a National Watershed Forum.

DATES: Pre-proposals must be received on or before 5pm Eastern Time on June 1, 2000 to be considered for this Federal assistance award.

ADDRESSES: Pre-proposals must be electronically mailed (E-mailed) to forum.watershed@epa.gov

FOR FURTHER INFORMATION CONTACT: Chris Lewicki by telephone at 202-260-2757 or by E-mail at forum.watershed@epa.gov.

SUPPLEMENTARY INFORMATION:

What Is the Purpose of This Request for Pre-Proposals?

EPA is seeking to award a cooperative agreement to a non-profit organization or other eligible entity under the Clean Water Act Section 104(b)(3) to support the recipient organization's efforts to convene a National Watershed Forum (Forum), preferably in Spring 2001, but no later than November 17, 2001. EPA and cooperating Federal agencies ¹ will jointly co-sponsor the Forum with the recipient organization and, through participation on a Forum planning committee, will have substantial involvement in helping the recipient organization carry out the project.

¹ Cooperating Federal agencies are those Federal agencies that have written agreements with the EPA to be co-sponsors of the National Watershed Forum.

This is a request for pre-proposals from eligible entities who wish to convene a National Watershed Forum and who have a demonstrable substantive interest in watershed protection and restoration across the nation. A detailed work plan and budget is all that is required at this time. The organization whose pre-proposal is selected for the Federal assistance award (cooperative agreement) will need to complete an EPA Application Kit for Assistance, including the Federal SF-424 form (Application for Federal Assistance) by June 23, 2000.

What Need Is There for a National Watershed Forum?

Approximately 40 percent of the nation's surveyed waters do not provide for basic uses such as fishing and swimming. Over the past several years, there has been a tremendous increase in the number of community-oriented, local watershed protection and restoration efforts. EPA estimates that there are more than 4,000 such efforts nationwide. Citizens are recognizing that to make further improvements in the condition of the aquatic resources in their community, they need to organize into local watershed groups and seek collaborative partnerships. These watershed groups help build public understanding of the problems in their watersheds and public will to take cooperative actions to address the problems. But, they can not do it alone. The National Watershed Forum will help the efforts of diverse watershed interests by providing opportunities to:

• Investigate barriers to watershed protection and restoration,

• Investigate future directions and actions needed to advance watershed protection and restoration efforts,

• Learn about innovative tools for watershed protection,

• Explore creative approaches to watershed protection and restoration,

• Form networks,

• Build partnerships, and

• Establish linkages to and among regional watershed roundtables.

The Forum will be a highly interactive and productive event. EPA anticipates the Forum will engage approximately 500 delegates, representing diverse watershed interests. Working sessions at the Forum could resemble focus groups, with participants divided according to their primary interests (e.g., urban watershed restoration, source water protection, storm water management, aquatic habitat, instream flows).

Regional watershed roundtables (Roundtables), which are convening across the country, are building the momentum for the Forum in two ways. First, the stakeholder dialogue resulting from the Roundtables can help the recipient organization in the development of the Forum agenda. Second, the Roundtables have assembled the diverse watershed interests in their region (e.g., watershed associations, private landowners, conservationists, commercial enterprises, government agencies, tribes, and others) from which delegates could be sent to the Forum to represent their region's watershed stakeholders.

The Forum can showcase innovative tools and approaches for watershed protection and restoration, stimulate dialogue and interaction among watershed groups across the country, and explore new directions for cooperative action that will sustain watersheds into the next century and beyond.

What Must the Recipient Organization Accomplish With the Federal Financial Assistance?

Through a cooperative agreement to one non-profit organization or other eligible entity, EPA will award up to $300,000 to support the investigation, by diverse watershed stakeholders, of barriers, and solutions for overcoming these barriers, to watershed protection and restoration.

A portion of the $300,000 award will be dedicated to support travel of non-Federal delegates that would not otherwise be able to attend the National Watershed Forum. The recipient organization is responsible for making the final decision regarding which non-Federal delegates will receive travel support. The recipient organization is encouraged to leverage resources to the extent possible. The co-sponsoring Federal agencies expect the recipient organization to successfully accomplish the following:

• Cooperate with the Forum planning committee;

• Share responsibility with the Forum planning committee for logistical planning, selection of location and facilities, speakers, panelists, and agenda development;

• Design, produce, and disseminate a report that analyzes and synthesizes the results of the Roundtables to help inform the agenda development of the Forum (each Roundtable has its own report that summarizes the regional dialogue);

• Effectively and efficiently convene, preferably in Spring 2001, but no later than November 17, 2001 the National Watershed Forum;

• Design and develop Internet web page and live Internet broadcasts of the Forum;

• Summarize the dialogue of the Forum's focus groups for presentation at the Forum and presentation on a Forum web site;

• Develop and implement a travel award process for non-Federal delegates;²

² Note that the non-Federal travel support system must ensure that the recipient organization that receives the assistance award, rather than the Federal co-sponsors, makes the decisions on who receives travel assistance.

• Develop and summarize participants' evaluation of the National Watershed Forum; and

• Design, produce, and disseminate a final report that summarizes the national dialogue of the Forum's focus groups.

What Is the Statutory Authority?

The EPA will be awarding a cooperative agreement to one non-profit organization or other eligible entity to support the investigation, by diverse watershed stakeholders, of barriers, and solutions for overcoming these barriers, to watershed protection and restoration under the authority of Section 104(b)(3) of the Clean Water Act.

What Information Needs To Be Included in the Pre-Proposal?

In the preparation of a pre-proposal, please note that the Government's intent is to support the efforts of the recipient organization and not to obtain services for its direct use and benefit.

1. Identify name, phone number, FAX number, postal address, and e-mail address of the primary contact for your pre-proposal.

2. Brief description of the organization, including its experience related to facilitating dialogue among diverse interests and its understanding of watershed protection and restoration issues across the nation.

3. Description of how this project benefits the organization's mission.

4. Brief biographies of organization's lead staff for the project.

5. Description of the process that would be used to convene the National Watershed Forum (including time line, outreach, agenda development, methods for facilitating dialogue, methods for any additional fund raising, methods for documenting results of dialogue).

6. Budget summary that identifies estimated EPA and non-Federal resources needed for costs associated with personnel, fringe, contractual services, travel (including staff travel and travel scholarships for non-Federal delegates to the Forum), supplies, indirect costs, and any other anticipated costs.

7. Identify any anticipated program income resulting from this award (e.g., registration fees, publications fees) and a description of how you propose this program income will be used to support the National Watershed Forum.

8. Describe how you intend to obtain diverse watershed stakeholder participation in the planning and participation in the National Watershed Forum (e.g., watershed alliances, environmental and public health organizations, private land owners, commercial enterprises, tribes, and government agencies).

9. Description of how you propose to select which non-Federal Forum delegates will receive travel scholarships.

10. Description of process to be used to produce a final report that summarizes dialogue (barriers and new directions and actions to overcome these barriers) that are representative of the full range of viewpoints of all the delegates at the National Watershed Forum.

11. Description of the reporting mechanisms that would be used to track and report on progress associated with convening the National Watershed Forum. Include description of how the organization plans to measure success.

12. Description of any other relevant information (e.g., other support that you may be able to offer) that EPA ³ may need to evaluate your proposal (see evaluation criteria below).

³ EPA will receive input on pre-proposals from cooperating Federal agencies. The responsibility for the final decision to select a recipient organization to co-sponsor the Forum, however, rests with EPA.

13. Description of organization's past experience as a grant recipient.

What Are the Pre-Proposal Evaluation Criteria for Selecting the Recipient Organization?

• Capacity to design effective, interactive focus group process among diverse interests and organizations and to provide professional, neutral facilitators in focus group process. 15 points

• Capacity to design, produce, and disseminate a report that summarizes Forum dialogue. 10 points

• Capacity to handle non-Federal planning and logistics of Forum, such as location and facilities selection, travel scholarships, materials development and printing, and agenda development. 15 points

• Demonstrable substantive interest and experience in watershed planning, protection and restoration issues across the entire nation. 10 points

• Capacity to summarize results of focus groups for presentation at the Forum and presentation on web site. 5 points

• Ability to design and develop Internet web page and live Internet broadcasts. 5 points

• Ability to understand the results of regional watershed roundtables, and to design, produce, and disseminate a report that analyzes and synthesizes the results of the Roundtables to help inform the agenda development of the Forum. 5 points

• Capacity to work closely with Forum planning committee and incorporate Forum planning committee's input into design and implementation of Forum. 15 points

• History of successful performance as a grant or cooperative agreement recipient. 10 points

• Ability to leverage resources and minimize overhead. 10 points

Total: 100 points

Pre-Proposal Format: Pre-proposals must be submitted in Word Perfect 5.1, 5.2, 6, 7, or 8 or in Microsoft Word.

Pre-proposal typeface must be in 12 point font with one inch margins. Pre-proposals must not exceed 10 pages in length.

Where To Send Pre-Proposals: Only pre-proposals that are electronically mailed (E-mail) will be considered. E-mail pre-proposals to: forum.watershed@epa.gov

In the subject heading of your E-mail submission, state the following, “FORUM PRE-PROPOSAL.”

Pre-Proposal Due Date: Pre-proposals must be received on or before 5pm Eastern Time on June 1, 2000 to be considered for this Federal assistance award.

Expected Date of Notification of Selection of Recipient Organization: EPA will select the recipient organization and notify all organizations that submitted pre-proposals of its decision by June 16, 2000. The organization whose pre-proposal is selected for the Federal assistance award (cooperative agreement) will need to complete an EPA Application Kit for Assistance, including the Federal SF-424 form (Application for Federal Assistance) by June 23, 2000.

Expected Date of Final Award to Recipient Organization: No later than September 30, 2000.

Contact Person: Chris Lewicki, EPA Office of Wetlands, Oceans, and Watersheds 202-260-2757 phone

For E-mail inquiries: forum.watershed@epa.gov

In the subject heading of your E-mail inquiry, state the following, “FORUM INQUIRY” Please include your phone number in the E-mail.

web site: http://www.epa.gov/owow

Dated: April 21, 2000.
Robert H. Wayland III,
Director, Office of Wetlands, Oceans and Watersheds.

[FR Doc. 00-10519 Filed 4-26-00; 8:45 am]

BILLING CODE 6560-50-P